ENVIRONMENTAL PROTECTION AGENCY

[FRL-8705-6]

Gulf of Mexico Program Citizens Advisory Committee Meeting

AGENCY: Environmental Protection Agency (EPA).

ACTION: Notice of cancellation of meeting.

SUMMARY: Under the Federal Advisory Committee Act (Pub. L. 92-463), EPA gives notice of cancellation of a meeting of the Gulf of Mexico Program (GMIP) Citizens Advisory Committee (CAC).

DATES: The cancelled meeting was scheduled to be held on Tuesday, August 19, 2008, from 9 a.m. to 5 p.m., Wednesday, August 20, 2008, from 9 a.m. to 5 p.m., and Thursday, August 21, 2008, from 9 a.m. to 12 p.m. at the Omni Corpus Christi Hotel-Marina Tower, 707 North Shoreline Boulevard, Corpus Christi, Texas 78401.

FOR FURTHER INFORMATION CONTACT: Gloria D. Car, Designated Federal Officer, Gulf of Mexico Program Office, Mail Code EPA/GMPO, Stennis Space Center, MS 39529-6000 at (228) 688-2421.

Dated: August 11, 2008.
Gloria D. Car,
Designated Federal Officer.

[FR Doc. E8-18978 Filed 8-14-08; 8:45 am]

BILLING CODE 6560-50-M